DEPARTMENT OF COMMERCE

National Oceanic and Atmospheric Administration

[RTID 0648-XC481]

New England Fishery Management Council; Public Meeting; Correction

AGENCY: National Marine Fisheries Service (NMFS), National Oceanic and Atmospheric Administration (NOAA), Commerce.

ACTION: Notice of correction to a public meeting.

SUMMARY: The New England Fishery Management Council (Council) is scheduling a public joint meeting of its Habitat Advisory Panel and Committee via webinar to consider actions affecting New England fisheries in the exclusive economic zone (EEZ). Recommendations from this group will be brought to the full Council for formal consideration and action, if appropriate. See SUPPLEMENTARY INFORMATION.

DATES: This meeting will be held on Friday, November 18, 2022, at 9 a.m.

ADDRESSES:

Webinar registration URL information: https://attendee.gotowebinar.com/register/7839935047339593995.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original meeting notice published in the Federal Register on October 31, 2022 (87 FR 65576). This notice corrects the date of the meeting and adds an additional agenda item. The original notice announced the meeting to be held on November 12, 2022. The meeting will be held on November 18, 2022.

Agenda

The Advisory Panel and Committee will discuss progress on the Atlantic Salmon Aquaculture Framework, including goals, objectives, and draft management alternatives. They will also discuss potential 2023 work priorities in advance of the December Council meeting, focusing on possible new actions: (1) revisions to Habitat Management Areas on the northern edge of Georges Bank, including consideration of recent research, and (2) essential fish habitat 5-year review and updates to designations. The group will develop a recommendation about whether to retain or remove the Georges Bank Dedicated Habitat Research Area. Discuss other business, as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the date. This meeting will be recorded. Consistent with 16 U.S.C. 1852, a copy of the recording is available upon request.

Authority: 16 U.S.C. 1801 et seq.

Dated: November 1, 2022.
Rey Israel Marquez,
Acting Deputy Director, Office of Sustainable Fisheries, National Marine Fisheries Service.

[FR Doc. 2022-24049 Filed 11-3-22; 8:45 am]

BILLING CODE 3510-22-P